AGENCY FOR INTERNATIONAL DEVELOPMENT

Notice of Public Information Collection Requirements Submitted to OMB for Review

SUMMARY: U.S. Agency for International Development (USAID) has submitted the following information collections to OMB for review and clearance under the Paperwork Reduction Act of 1995, Public Law 104-13. Comments regarding this information collection are best assured of having their full effect if received within 30 days of this notification. Comments should be sent via e-mail to Ross_A._Rutledge@omb.eop.gov fax to 202-395-6974. Copies of submission may be obtained by calling (202) 712-1365.

SUPPLEMENTARY INFORMATION: OMB Number: OMB 0412-0572.

Form Number: N/A.

Title: Summer Internship Application.

Type of Submission: Renewal of Information Collection.

Purpose: The United States Agency for International Development, Africa Bureau, intends to use the Summer internship Application to collect information from approximately 300 student applicants to its summer internship programs for USAID Missions in Africa and in Washington, DC.

Annual Reporting Burden:

Respondents: 300.

Total annual responses: 300.

Total annual hours requested: 150 hours.

Dated: July 27, 2009.
Cynthia Staples,
Acting Chief, Information and Records Division, Office of Administrative Services, Bureau for Management.

[FR Doc. E9-18310 Filed 7-30-09; 8:45 am]

BILLING CODE 6116-01-P